ENVIRONMENTAL PROTECTION AGENCY

[EPA-HQ-OECA-2011-0824; FRL 9948-44-OEI]

Agency Information Collection Activities; Submission to OMB for Review and Approval; Comment Request; Pesticide Establishment Application, Notification of Registration and Pesticide Production Report for Pesticide-Producing and Device-Producing Establishments

AGENCY: Environmental Protection Agency.

ACTION: Notice.

SUMMARY: The Environmental Protection Agency has submitted an information collection request (ICR), “Pesticide Establishment Application, Notification of Registration and Pesticide Production Report for Pesticide-Producing and Device-Producing Establishments” (EPA ICR No. 0160.11, OMB Control No. 2070-0078) to the Office of Management and Budget (OMB) for review and approval in accordance with the Paperwork Reduction Act (44 U.S.C. 3501 et seq.). This is a proposed extension of the ICR, which is currently approved through June 30, 2016. Public comments were previously requested via the Federal Register (81 FR 5749) on February 3, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 1, 2016.

ADDRESSES: Submit your comments, referencing Docket ID No. EPA-HQ-OECA-2011-0824 to: (1) EPA online using http://www.regulations.gov (our preferred method), or by email to docket.oeca@epa.gov, or by mail to: OECA Docket, Environmental Protection Agency, EPA Docket Center (EPA/DC), Mail code: 28221T, 1200 Pennsylvania Avenue NW., Washington, DC 20460; and (2) OMB at: oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michelle Stevenson, Office of Compliance, Monitoring, Assistance, and Media Programs Division, Pesticides, Waste & Toxics Branch (2225A), Environmental Protection Agency, 1200 Pennsylvania Avenue NW., Washington, DC 20460; telephone number: (202) 564-4203; email: stevenson.michelle@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Federal Insecticide, Fungicide, and Rodenticide Act (FIFRA) Section 7(a) requires that any person who produces pesticides or pesticide devices subject to the Act must register with the Administrator of EPA the establishment in which the pesticide or the device is produced. This Section further requires that application for registration of any establishment shall include the name and address of the establishment and of the producer who operates such an establishment.

FIFRA Section 7(c) requires that any producer operating an establishment registered under Section 7 report to the Administrator within 30 days after it is registered, and annually thereafter by March 1st for certain pesticide/device production and sales/distribution information. The producers must report which types and amounts of pesticides, active ingredients, or devices are currently being produced, were produced during the past year, and sold or distributed in the past year. The supporting regulations at 40 CFR part 167 provides the requirements and time schedules for submitting production information.

During January 2016, an option has been added to allow pesticide establishment producers to electronically enter and submit their establishment registration information and pesticide production information through EPA's Central Data Exchange (CDX). A supplemental explanation is detailed in Section 5(b) of the Supporting Statement.

Form Numbers: 3540-8, 3540-16.

Respondents/affected entities: Pesticide-Producing and Device-Producing Establishments.

Respondent's obligation to respond: Mandatory (40 CFR 167).

Estimated number of respondents: 14,730 (total).

Frequency of response: Annually.

Total estimated burden: 21,274 hours (per year). Burden is defined at 5 CFR 1320.03(b).

Total estimated cost: $1,680,644 (per year), includes $0 annualized capital or operation & maintenance costs.

Changes in the Estimates: There is an increase of 1,287 hours in the total estimated respondent burden compared with the ICR currently approved by OMB. This increase is due to an adjustment in the estimates of the number of respondents.

Dated: June 23, 2016.
Matthew Leopard,
Director, Office of Information Collection.

[FR Doc. 2016-15738 Filed 6-30-16; 8:45 am]

BILLING CODE 6560-50-P